DEPARTMENT OF COMMERCE

Foreign-Trade Zones Board

[S-233-2023]

Approval of Subzone Status; GMA Accessories DBA Capelli New York; Pittston, Pennsylvania

On December 8, 2023, the Executive Secretary of the Foreign-Trade Zones (FTZ) Board docketed an application submitted by the Eastern Distribution Center, Inc., grantee of FTZ 24, requesting subzone status subject to the existing activation limit of FTZ 24, on behalf of GMA Accessories DBA Capelli New York, in Pittston, Pennsylvania.

The application was processed in accordance with the FTZ Act and Regulations, including notice in the Federal Register inviting public comment (88 FR 86623, December 14, 2023). The FTZ staff examiner reviewed the application and determined that it meets the criteria for approval. Pursuant to the authority delegated to the FTZ Board Executive Secretary (15 CFR 400.36(f)), the application to establish 24H was approved on February 21, 2024, subject to the FTZ Act and the Board's regulations, including section 400.13, and further subject to FTZ 24's 2,000-acre activation limit.

Dated: February 21, 2024.
Elizabeth Whiteman,
Executive Secretary.

[FR Doc. 2024-03865 Filed 2-23-24; 8:45 am]

BILLING CODE 3510-DS-P